DEPARTMENT OF AGRICULTURE

Forest Service

Kaibab National Forest; Arizona; Warm Fire Recovery Project

AGENCY: Forest Service, USDA.

ACTION: Notice of intent to prepare an environmental impact statement.

SUMMARY: This project would address part of the overall restoration needs for the approximately 40,000 acres that burned in June through July 2006 in the fire suppression area of the Warm Fire. Specifically, this proposal includes salvage of approximately 84.5 million board feet (MMBF) (168,987 hundred cubic feet) of fire killed timber on approximately 9,990 acres and reforestation through planting conifers on approximately 14,690 acres, while allowing approximately 4,050 acres to naturally reforest with quaking aspen.

DATES: Comments concerning the scope of the analysis must be received by January 26, 2007. The draft environment impact statement is expected May 2007 and the final environmental impact statement is expected September 2007.

ADDRESSES: Send written comments to District Ranger, North Kaibab Ranger District, Kaibab National Forest, P.O. Box 248, 430 S. Main Street, Fredonia, AZ 86022, or fax: 928-643-8105. Comments may be submitted by e-mail in word (.doc), rich text format (.rtf), text (.txt), or hypertext markup language (.html) to: mailroom_r3_kaibab@fs.fed.us, please include “Warm Fire, Attn: Scott Clemans” in the subject line. Oral comments may the provided to Interdisciplinary Team Leader Lois Pfeffer by telephone (559) 359-7023 or (307) 754-8197.

Please call her to set up a time for your oral comments. Comments may also be hand delivered weekdays 8 a.m. until 4:30 p.m. at the above address. To be eligible for appeal, each individual or representative from each organization submitting comments must either sign the comments or verify their identity upon request.

For further information, mail correspondence to Lois Pfeffer, Environmental Coordinator, TEAMS Planning, 145 East 2nd Street, Powell, WY 82435, (550) 359-7023 or Scott Clemans, Kaibab National Forest, North Kaibab Ranger District, P.O. Box 248, 430 S. Main Street, Fredonia, AZ 86022 (928) 643-8172.

FOR FURTHER INFORMATION CONTACT: Lois Pfeffer or Scott Clemans (see ADDRESSES above).

SUPPLEMENTARY INFORMATION: Introduction: The Warm Fire was started by lightning on June 8 and was managed as a “wildland fire use” fire for approximately 2½ weeks. On June 25, fire management transitioned from a wildland fire use to a suppression strategy after winds pushed the fire south outside the Maximum Manageable Area, burning over 39,000 acres. On July 1, 2006 a Burned Area Emergency Response (BAER) team wa assembled to conduct a soil and hydrologic assessment and initiate rehabilitation to minimize the loss of soil productivity, downstream water quality, and threats to human life and property. Rehabilitation of fire lines, repair of storm damaged roads, and aerial seeding of the high intensity burned areas occurred under the BAER plan. On August 1, 2006 an interdisciplinary post-fire assessment team was assembled to assess the status of the resources, identify recovery needs, and recommend a program of recovery work (beyond BAER). The assessment team identified the levels of tree mortality across the wildfire area. The final assessment will be available on the Kaibab National Forest Web site http://www.fs.fed.us/r3/kai.

The National has begun addressing the needs identified in the draft assessment including repair of range improvements and removal of hazard trees along roads. The Warm Fire Recovery project addresses three of the needs identified in the assessment. Public meetings were held to discuss the Warm Fire and potential management of the burned areas. Comments and recommendations were considered in the formulation of the proposed action for this project.

Need for Action

Recovery the Economic Value from Burned Timber

Thousands of acres of suitable timberland burned in the Warm Fire are now occupied by dead and dying trees. The Kaibab Forest Plan includes the goal to “manage suitable timberland to provide a sustained level of timber outputs to support local dependent industries”. The Plan also includes a guideline for Ecosystem Management Area (EMA) 13 to “salvage stands, or parts thereof, that are severely damaged by dwarf mistletoes, insects, fires, windthrow”. The Forest Service has a MOU with the State of Utah to jointly identify priority restoration needs, build capacity to accomplish needed restoration projects and to expand the use of stewardship contracting or other tools that encourage local employment in order to benefit the management of the National Forests and communities of the Central Colorado Plateau.

There is a need to recover economic value of some of the burned timber before the commercial value of the wood is lost to deterioration. Jobs created from the sale of salvage material could provide positive benefits to the local community. Also, salvage harvest would help reduce the costs associated with meeting desired fuel conditions in portions of the burned area.

Reforest Burned Conifer Stands and Move Toward Longer-Term Desired Conditions

Long-term desired conditions based on reference conditions (Fule, et al., 2003a; Gildar and Fule, 2004; White and Vankat, 1993) and Kaibab Forest Plan Direction include:

• Forest stands dominated by the appropriate species, which includes both conifers and quaking aspen as determined as the site level.

• Uneven-aged stand conditions.

• Relatively low stand densities in ponderosa pine dominated stands, with higher densities in mixed conifer stands.

• Surface fuel levels are such that reflects the historic fire regime (relatively frequent and low to mixed fire intensity) and the associated ecological processes are maintained.

• Collectively, these conditions provide suitable habitat for nature wildlife species, including Northern Gashawks, Mexican Spotted Owls, and their prey species.

The Kaibab Forest Plan includes a standard for EMA 13 to “formulate, design, and propose operations or improvements that contribute, over time, to the achievement of desired resource or ecological conditions in landscapes”.

Large areas of conifer stands were killed by the fire and now have few and poorly distributed seed sources. Natural conifer regenerations may take decades. There is a need to establish a course toward longer-term desired conditions by assuring regeneration of forest cover in the near term. There is a need to establish conifer seedlings in areas where conifer seed sources are now lacking. The early establishment of conifers (e.g. by planting seedlings) and management to reduce future large fuel hazards would provide the greatest assurance that conifers would be a significant components of the next generation of forest vegetation in the burned area. In order to protect the reforested stands from future wildland fires that would need to be managed to become resilient to low and moderate intensity fires. There is a need to protect and accelerate the recovery of habitat conditions that would provide for the needs of native wildlife.

Break Up Fuel Continuity in the Burned Area

There are currently thousands of acres of fire killed trees that will eventually fall to the ground, resulting in high loading of large fuels over extensive areas. Future fire intensity and severity is expected to be higher increasing the risk of soil damage due to large woody fuel accumulations.

The Kaibab Forest Plan provides fire protection guidelines for EMA 13 that include:

• Provide fire protection to restrict wildfire size to 20 acres.

• Minimize acreage burned by high intensity fires.

The Forest Plan also provides the following guideline for fuel management in EMA 13: “Priority for fuel treatment investment is given to: a. Rural-urban interface; b. Areas which exceed the burning conditions which yield the historical, 50 percentile rate of fire spread in fuel model K; c. Maintenance of existing fuelbreaks and fuel reduction corridors.”

There is a need to reduce fuels in certain areas in order to increase the likelihood of safe and successful fire protection efforts in the future. These areas should have a strategic spatial arrangement and need to provide areas for relatively safe and effective management of future fires (both wildland and prescribed). The objective in these areas is to promote, over the longer term, fuel conditions with low surface fire intensity and fire severity, low resistance to fire line construction,; collectively helping to reduce the likelihood of future large, high intensity fires and protecting reforestation efforts.

Purpose and Need for Action

The purpose and need for the Warm Fire Recovery project is to:

• Recover the economic value from burned timber. There is a need to recover economic value of some of the burned timber before the commercial value of the wood is lost to deterioration. Jobs created from the sale of salvage material could provide positive benefits to the local community. Also, salvage harvest would help reduce the costs associated with meeting desired fuel conditions in portions of the burned area.

• Reforest burned conifer stands and move toward longer-term desired conditions. There is a need to establish a course toward longer-term desired conditions by assuring regeneration of forest cover in the near term. There is a need to establish confier seedlings in areas where conifer seed sources are now lacking. The early establishment of conifers (e.g. by planting seedings) and management to reduce future large fuel hazards would provide the greatest assurance that conifers would be a significant component of the next generation of forest vegetation in the burned area. In order to protect the reforested stands from future wildland fires they would need to be managed to become resilient to low and moderate inensity fires. There is a need to protect and accelerate the recovery of habitat conditions that would provide for the needs of native wildlife.

• Break up fuel continuity in the burned area. There is a need to reduce fuels in certain areas in order to increase the likelihood of safe and successful fire protection efforts in the future. These areas should have a strategic spatial arrangement and need to provide areas for relatively safe and effective management of future fires (both wildland and prescribed). The objective in these areas is to promote, over the longer term, fuel conditions with low surface fire intensity and fire severity, low resistance to fire line construction,; collectively helping to educe the likelihood of future large, high intensity fires and protecting reforestation efforts.

Proposed Action

The proposed action is limited to the area within the Warm Wildfire area. Comments received from the public stakeholders were reviewed when determining where salvage logging may be appropriate. The following criteria were used to determine whether an area would be appropriate for treatment or not.

• Wildlife: Large blocks of snags and travel corridors for Mexican spotted owl and goshawk habitat would be reserved. These areas were combined with 100 foot buffers along drainages identified in the USGS National Hydrography Dataset stream layer. These areas would provide habitat with no ground disturbance within the project area.

• Economics: Stands considered for salvage include those with at least 3-4 MBF volume per acre in trees greater than 14 inches diameter. Smaller diameter material is anticipated to lose value quickly.

• Soils: Forest Plan direction allows harvest on slopes under 40 percent. Ground based equipment is on average limited to slopes less than 30 percent. Highly erosive soils that burned with high intensity were reviewed on the ground. To protect soils on steeper slopes, ground disturbing activities were limited to occur on slopes less than 20 percent and up to 100 feet into areas on slopes over 20 percent, but under 30 percent. The approximately breakdown in potential salvage logging by slope are: 8,230 acres percent of the salvage logging are on slopes between 20-30% slopes and approximately 250 acres of salvage logging on slopes over 30% adjacent to other salvage areas.

• Fire severity: Areas with moderate to high mortality were considered for salvage logging. Low severity burn areas with green trees were removed from salvge consideration.

• Reforestation needs: Areas with adequate aspen regeneration were identified for aspen restoration opportunities. Planting was identified for areas with high to moderate mortality that don't have an aspen response, are lacking a seed source and where suitble soil conditions exist to ensure a resonable change of reforestation success. Planting was also proposeed to ensure a reasonable chance of reforestation success. Planting was also proposed to encourage mixed conifer species composition for some of the areas that are designated Mexican spotted owl habitat.

The actions developed to address teh needs are as follows:

• Salvage logging on approximately 9,990 acres resulting in removal of approximately 84.5 MMBF of timber products.

• Salvage logging on approximately 9,990 acres resulting in removal of approximately 84.5 MMBF of timber products.

• Approximately 14,690 acres of reforestation need were identified in the wildfires aera. Reforestation proposed for the wildfire area includes allowing aspen to naturally regenerate on approximately 4,050 acres, planting on ponderosa pine on 5,370 acres, and planting of mixed conifers (ponderosa pine and Douglas fir) on 5,270 acres. In designated Mexican Spotted Owl habitat planting would occur to encourage mixed conifer habitat development.

• Slash disposal/fuels treatments would be conducted on some salvage logged areas to protect future regeneration and may include lop and scatter of tops and limbs, chipping, mastication, and/or hand pile or jackpot burning.

Responsible Official

Michael Williams, Forest Supervisor, Kaibab National Forest, 800 S. 6th Street, Williams AZ 86046.

Nature of Decision To Be Made

The decision to be made is whether to salvage fire-killed timber from the Warm Wildfire area as proposed or in what manner, the level of reforestation planting, and what mitigation measures would be in effect.

Scoping Process

Scoping letters will be sent to those that previously indicated interest in the War Fire. Comments received will; be reviewed and alternatives developed to address comments as needed.

Preliminary Issues

The following resource issues have been identified and will be addressed in the analysis:

• Direct, indirect, and cumulative soil and watershed effects in the burned area.

• Effects to wildlife (particularly MIS and TES species) and consistency with the intent of the Grand Canyon Game Preserve Act.

• Visual quality along the North Rim Scenic Byway.

Comment Requested

This notice of intent initiates the scoping process which guides the development of the environmental impact statement. Comments most helpful tot he project development are those which specifically identify issues caused or related to the proposed action. More information about this and other projects in the Warm Fire area is available on the Kaibab National Forest Web site at http://www.fx.fed.us/r3/kai.

Early Notice of Importance of Public Participation in Subsequent Environmental

Review: A draft environmental impact statement will be prepared for comment. The comment period on the draft environmental impact statement will be 45 days from the data the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the January 2007 scoping comment period so that substantive comments and objections are made available to the Forest Service at a time when it can meaningfully consider them and respond to them in the final environmental impact statement. To assist the Forest Service in identifying and considering issues and concerns on the proposed action, comments ont he draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: December 20, 2006.
Elizabeth M. Schuppert,
Acting Forest Supervisor.

[FR Doc. 06-9904 Filed 12-27-06; 8:45 am]

BILLING CODE 3410-11-M